DEPARTMENT OF DEFENSE

Department of the Navy

Notice of Intent To Prepare an Environmental Impact Statement and Overseas Environmental Impact Statement for Navy Hawaii-Southern California Training and Testing and To Announce Public Scoping Meetings

AGENCY: Department of the Navy, DoD.

ACTION: Notice.

SUMMARY: Pursuant to section 102 of the National Environmental Policy Act (NEPA) of 1969, as implemented by the Council on Environmental Quality Regulations (40 Code of Federal Regulations [CFR] Parts 1500-1508), and Executive Order 12114, the Department of the Navy (DON) announces its intent to prepare an Environmental Impact Statement (EIS) and Overseas EIS (OEIS) to evaluate the potential environmental effects associated with military readiness training and research, development, testing, and evaluation (RDT&E) activities (hereinafter referred to as “training and testing” activities) conducted within the Hawaii-Southern California Training and Testing (HSTT) study area. The HSTT study area combines the at-sea portions of the Hawaii Range Complex, the Southern California Range Complex (including the San Diego Bay); the Silver Strand Training Complex; areas where vessels transit between the Hawaii Range Complex and the Southern California Range Complex; and select Navy pierside locations. This EIS and OEIS is being prepared to renew and combine current regulatory permits and authorizations; address current training and testing not covered under existing permits and authorizations; and to obtain those permits and authorizations necessary to support force structure changes and emerging and future training and testing requirements.

The DON will invite the National Marine Fisheries Service to be a cooperating agency in preparation of this EIS and OEIS.

DATES AND ADDRESSES: Six public scoping meetings will be held between 4 p.m. and 8 p.m., unless otherwise stated, on the following dates and at the following locations:

1. Wednesday, August 4, 2010, 3:30 p.m. to 7:30 p.m., Point Loma/Hervey Branch Library, Community Room, 3701 Voltaire Street, San Diego, CA.

2. Thursday, August 5, 2010, Lakewood High School, Room 922/924, 4400 Briercrest Avenue, Lakewood, CA.

3. Tuesday, August 24, 2010, Kauai Community College Cafeteria, 3-1901 Kaumuali'i Highway, Lihue, HI.

4. Wednesday, August 25, 2010, Disabled American Veterans Hall, Weinberg Hall, 2685 North Nimitz Highway, Honolulu, HI.

5. Thursday, August 26, 2010, Hilo High School Cafeteria, 556 Waianuenue Avenue, Hilo, HI.

6. Friday, August 27, 2010, Maui Waena Intermediate School Cafeteria, 795 Onehee Avenue, Kahului, HI.

Each of the six scoping meetings will consist of an informal, open house session with informational stations staffed by DON representatives. Meeting details will be announced in local newspapers. Additional information concerning meeting times is available on the EIS and OEIS Web page located at: http://www.HawaiiSOCALEIS.com.

FOR FURTHER INFORMATION CONTACT: Kent Randall, Naval Facilities Engineering Command, Southwest. Attention: HSTT EIS/OEIS, 1220 Pacific Highway, Building 1, Floor 5, San Diego, CA 92132, or Meghan Byrne, Naval Facilities Engineering Command, Pacific. Attention: HSTT EIS/OEIS, 258 Makalapa Dr, Ste 100, Building 258, Floor 3, Room 258C210, Pearl Harbor, HI 96860-3134.

SUPPLEMENTARY INFORMATION: The DON's proposed action is to conduct training and testing activities that include the use of active sonar and explosives within the at-sea portions of existing DON training range complexes around the Hawaiian Islands and off the coast of Southern California (known as the HSTT study area). While the majority of these training and testing activities take place in operating and warning areas and/or on training and testing ranges, some training activities, such as sonar maintenance and gunnery exercises, are conducted concurrent with normal transits and may occur outside of DON operating and warning areas.

The HSTT study area combines the at-sea portions of the following range complexes: Hawaii Range Complex, Southern California Range Complex, and Silver Strand Training Complex. The existing western boundary of the Hawaii Range Complex is being expanded 60 miles to the west to the International Dateline. The HSTT study area also includes the transit route between Hawaii and Southern California as well as DON and commercial piers at Pearl Harbor, HI and San Diego, CA where sonar may be tested.

The proposed action is to conduct military training and testing activities in the HSTT study area. The purpose of the proposed action is to achieve and maintain Fleet Readiness to meet the requirements of Title 10 of the U.S. Code, which requires DON to “maintain, train, and equip combat-ready naval forces capable of winning wars, deterring aggression, and maintaining freedom of the seas.” The proposed action would also allow DON to attain compliance with applicable environmental authorizations, consultations, and other associated environmental requirements, including those associated with new platforms and weapons systems, for example, the Low Frequency Anti-Submarine Warfare capability associated with the Littoral Combat Ship.

The alternatives that will be analyzed in the HSTT EIS and OEIS meet the purpose and need of the proposed action by providing the level of training that meets the requirements of Title 10, thereby ensuring that Sailors and Marines are properly prepared for operational success. Similarly, the level of RDT&E proposed for the HSTT study area is necessary to ensure that Sailors and Marines deployed overseas have the latest proven military equipment. Accordingly, the alternatives to be addressed in the HSTT EIS and OEIS are:

1. No Action—The No Action Alternative continues baseline training and testing activities and force structure requirements as defined by existing DON environmental planning documents. This documentation includes the Records of Decision for the Hawaii and Southern California range complexes and the Preferred Alternative for the Silver Strand Training Complex Draft EIS and OEIS.

2. Alternative 1—This alternative consists of the No Action alternative, plus expansion of the overall study area boundaries, and updates and/or adjustments to locations and tempo of training and testing activities. This alternative also includes changes to training and testing requirements necessary to accommodate force structure changes, and the development and introduction of new vessels, aircraft, and weapons systems.

3. Alternative 2—Alternative 2 consists of Alternative 1 with an increased tempo of training and testing activities. This alternative also allows for additional range enhancements and infrastructure requirements.

Resource areas that will be addressed because of the potential effects from the proposed action include, but are not limited to: Ocean and biological resources (including marine mammals and threatened and endangered species); air quality; airborne soundscape; cultural resources; transportation; regional economy; recreation; and public health and safety.

The scoping process will be used to identify community concerns and local issues to be addressed in the EIS and OEIS. Federal agencies, state agencies, local agencies, Native American Indian Tribes and Nations, the public, and interested persons are encouraged to provide comments to the DON to identify specific issues or topics of environmental concern that the commenter believes the DON should consider. All comments provided orally or in writing at the scoping meetings, will receive the same consideration during EIS and OEIS preparation. Written comments must be postmarked no later than September 14, 2010, and should be mailed to: Naval Facilities Engineering Command, Southwest, 2730 McKean Street, Building 291, San Diego, CA 92136-5198, Attention: Mr. Kent Randall—HSTT EIS/OEIS.

Dated: July 9, 2010.
D.J. Werner
Lieutenant Commander, Office of the Judge Advocate General, U.S. Navy, Federal Register Liaison Officer.

[FR Doc. 2010-17234 Filed 7-14-10; 8:45 am]

BILLING CODE 3810-FF-P